DEPARTMENT OF ENERGY

Federal Energy Regulatory Commission

Combined Notice of Filings

Take notice that the Commission has received the following Natural Gas Pipeline Rate and Refund Report filings:

Filings in Existing Proceedings

Docket Numbers: RP21-778-006.

Applicants: Southern Star Central Gas Pipeline, Inc.

Description: Compliance filing: Rate Case (RP21-778) Settlement Filing to be effective 11/1/2021.

Filed Date: 6/10/22.

Accession Number: 20220610-5156.

Comment Date: 5 p.m. ET 6/22/22.

Any person desiring to protest in any the above proceedings must file in accordance with Rule 211 of the Commission's Regulations (18 CFR 385.211) on or before 5:00 p.m. Eastern time on the specified comment date.

Filings Instituting Proceedings

Docket Numbers: RP22-977-000.

Applicants: Gulf South Pipeline Company, LLC.

Description: § 4(d) Rate Filing: Filing to Incorporate Approved Changes from RP22-738-000 to be effective 6/1/2022.

Filed Date: 6/10/22.

Accession Number: 20220610-5088.

Comment Date: 5 p.m. ET 6/22/22.

Docket Numbers: RP22-978-000.

Applicants: El Paso Natural Gas Company, L.L.C.

Description: § 4(d) Rate Filing: Negotiated Rate Agreement Update (Pioneer July-Sept 2022) to be effective 7/1/2022.

Filed Date: 6/10/22.

Accession Number: 20220610-5173.

Comment Date: 5 p.m. ET 6/22/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2022.
Debbie-Anne A. Reese,
Deputy Secretary.

[FR Doc. 2022-13117 Filed 6-16-22; 8:45 am]

BILLING CODE 6717-01-P